NUCLEAR REGULATORY COMMISSION

[NRC-2017-0092]

Biweekly Notice: Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from March 14, 2017, to March 27, 2017. The last biweekly notice was published on March 28, 2017.

DATES: Comments must be filed by May 11, 2017. A request for a hearing must be filed by June 12, 2017.

ADDRESSES: You may submit comments by any of the following methods (unless this document describes a different method for submitting comments on a specific subject):

• Federal Rulemaking Web site: Go to http://www.regulations.gov and search for Docket ID NRC-2017-0092. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington DC 20555-0001; telephone: 301-415-1384, email: janet.burkhardt@nrc.gov.

SUPPLEMENTARY INFORMATION:

I. Obtaining Information and Submitting Comments

A. Obtaining Information

Please refer to Docket ID NRC-2017-0092, facility name, unit number(s), plant docket number, application date, and subject when contacting the NRC about the availability of information for this action. You may obtain publicly-available information related to this action by any of the following methods:

• Federal rulemaking Web site: Go to http://www.regulations.gov and search for Docket ID NRC-2017-0092.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0092, facility name, unit number(s), plant docket number, application date, and subject, in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's Web site at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by June 12, 2017. The petition must be filed in accordance with the filing instructions in the “Electronic Submissions (E-Filing)” section of this document, and should meet the requirements for petitions set forth in this section, except that under 10 CFR 2.309(h)(2) a State, local governmental body, or federally recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC Web site at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Carolinas, LLC, Docket Nos. 50-413 and 50-414, Catawba Nuclear Station, Units 1 and 2, York County, South Carolina

Date of amendment request: December 15, 2016. A publicly available version is in Agencywide Documents Access and Management System (ADAMS) under Accession No. ML16350A422.

Description of amendment request: The amendments would modify Technical Specification 3.1.2, “Core Reactivity,” to revise the Completion Times of Required Action A.1 and A.2 from 72 hours to 7 days. This proposed change is consistent with Technical Specification Task Force (TSTF) Traveler TSTF-142-A, Revision 0, “Increase the Completion Time when the Core Reactivity Balance is Not Within Limit.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes extend the Completion Time to take the Required Actions when measured core reactivity is not within the specified limit of the predicted values. The Completion Time to respond to a difference between predicted and measured core reactivity if not an initiator to any accident previously evaluated. The radiological consequences of an accident during the proposed Completion Time are no different from the consequences of an accident during the existing Completion Time. Therefore, the proposed changes do not involve a significant increase in the probability or consequences of any accident previously evaluated.

2. Does the proposed amendment create the possibility of a new or different kind of accident from any accident previously evaluated?

Response: No.

The proposed changes do not involve a physical alteration to the plant (i.e., no new or different type of equipment will be installed) or a change to the methods governing normal plant operation. The changes do not alter the assumptions made in the safety analysis. Therefore, the proposed changes do not create the possibility of a new or different kind of accident from any accident previously evaluated.

3. Does the proposed amendment involve a significant reduction in the margin of safety?

Response: No.

The proposed changes provide additional time to investigate and to implement appropriate operating restrictions when measured core reactivity is not within the specified limit of the predicted values. The additional time will not have a significant effect on plant safety due to the conservatisms used in designing the reactor core and performing the safety analyses, and the low probability of an accident or transient which would approach the core design limits during the additional time. Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Kate Nolan, Deputy General Counsel, Duke Energy Corporation, 526 South Church Street—DEC45A, Charlotte, NC 28202.

NRC Branch Chief: Michael T. Markley.

Exelon Generation Company, LLC, Docket Nos. 50-237 and 50-249, Dresden Nuclear Power Station (DNPS), Units 2 and 3, Grundy County, Illinois

Date of amendment request: February 10, 2017. A publicly-available version is in ADAMS under Accession No. ML17045A006.

Description of amendment request: The proposed amendment would revise the DNPS, Units 2 and 3, technical specifications (TSs) by replacing the existing specifications related to “operation with a potential for draining the reactor vessels” (OPDRVs), with revised requirements for reactor pressure vessel (RVP) water inventory control (WIC) to protect Safety Limit 2.1.1.3. Safety Limit 2.1.1.3 requires reactor vessel water level to be greater than the top of active irradiated fuel. The proposed amendment would adopt changes, with variations as noted in the license amendment request, and is based on the NRC-approved safety evaluation for Technical Specification Task Force (TSTF) Traveler TSTF-542, Revision 2, “Reactor Pressure Vessel Water Inventory Control,” dated December 20, 2016.

Basis for proposed no significant hazards consideration determination: As required by 10 CFR 50.91(a), the licensee has provided its analysis of the issue of no significant hazards consideration, which is presented below:

1. Does the proposed amendment involve a significant increase in the probability or consequences of an accident previously evaluated?

Response: No.

The proposed change replaces existing TS requirements related to OPDRVs with new requirements on RPV WIC that will protect Safety Limit 2.1.1.3. Draining of RPV water inventory in Mode 4 (i.e., cold shutdown) and Mode 5 (i.e., refueling) is not an accident previously evaluated and, therefore, replacing the existing TS controls to prevent or mitigate such an event with a new set of controls has no effect on any accident previously evaluated. RPV water inventory control in Mode 4 or Mode 5 is not an initiator of any accident previously evaluated. The existing OPDRV controls or the proposed RPV WIC controls are not mitigating actions assumed in any accident previously evaluated.

The proposed change reduces the probability of an unexpected draining event (which is not a previously evaluated accident) by imposing new requirements on the limiting time in which an unexpected draining event could result in the reactor vessel water level dropping to the top of the active fuel (TAF). These controls require cognizance of the plant configuration and control of configurations with unacceptably short drain times. These requirements reduce the probability of an unexpected draining event. The current TS requirements are only mitigating actions and impose no requirements that reduce the probability of an unexpected draining event.

The proposed change reduces the consequences of an unexpected draining event (which is not a previously evaluated accident) by requiring an Emergency Core Cooling System (ECCS) subsystem to be operable at all times in Modes 4 and 5. The current TS requirements do not require any water injection systems, ECCS or otherwise, to be operable in certain conditions in Mode 5. The change in requirement from two ECCS subsystems to one ECCS subsystem in Modes 4 and 5 does not significantly affect the consequences of an unexpected draining event because the proposed Actions ensure equipment is available within the limiting drain time that is as capable of mitigating the event as the current requirements. The proposed controls provide escalating compensatory measures to be established as calculated drain times decrease, such as verification of a second method of water injection and additional confirmations that secondary containment and/or filtration would be available if needed.

The proposed change reduces or eliminates some requirements that were determined to be unnecessary to manage the consequences of an unexpected draining event, such as automatic initiation of an ECCS subsystem and control room ventilation. These changes do not affect the consequences of any accident previously evaluated since a draining event in Modes 4 and 5 is not a previously evaluated accident and the requirements are not needed to adequately respond to a draining event.

Therefore, the proposed change does not involve a significant increase in the probability or consequences of an accident previously evaluated.

2. Does the proposed amendment create the possibility of a new or different kind of accident from any previously evaluated?

Response: No.

The proposed change replaces existing TS requirements related to OPDRVs with new requirements on RPV WIC that will protect Safety Limit 2.1.1.3. The proposed change will not alter the design function of the equipment involved. Under the proposed change, some systems that are currently required to be operable during OPDRVs would be required to be available within the limiting drain time or to be in service depending on the limiting drain time. Should those systems be unable to be placed into service, the consequences are no different than if those systems were unable to perform their function under the current TS requirements.

The event of concern under the current requirements and the proposed change is an unexpected draining event. The proposed change does not create new failure mechanisms, malfunctions, or accident initiators that would cause a draining event or a new or different kind of accident not previously evaluated or included in the design and licensing bases.

Therefore, the proposed change does not create the possibility of a new or different kind of accident from any previously evaluated.

3. Does the proposed amendment involve a significant reduction in a margin of safety?

Response: No.

The proposed change replaces existing TS requirements related to OPDRVs with new requirements on RPV WIC. The current requirements do not have a stated safety basis and no margin of safety is established in the licensing basis. The safety basis for the new requirements is to protect Safety Limit 2.1.1.3. New requirements are added to determine the limiting time in which the RPV water inventory could drain to the top of the fuel in the reactor vessel should an unexpected draining event occur. Plant configurations that could result in lowering the RPV water level to the TAF within one hour are now prohibited. New escalating compensatory measures based on the limiting drain time replace the current controls. The proposed TS establish a safety margin by providing defense-in-depth to ensure that the Safety Limit is protected and to protect the public health and safety. While some less restrictive requirements are proposed for plant configurations with long calculated drain times, the overall effect of the change is to improve plant safety and to add safety margin.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: David J. Wrona.

Exelon Generation Company, LLC, Docket Nos. 50-289 and 50-320, Three Mile Island Nuclear Station (TMI), Unit 1 and Unit 2, Dauphin County, Pennsylvania

Date of amendment request: July 15, 2016, as supplemented by letter dated February 13, 2017. Publicly-available versions are in ADAMS under Accession Nos. ML16201A306 and ML17045A036, respectively.

Description of amendment request: The amendment request was originally noticed in the Federal Register on October 25, 2016 (81 FR 73435). The notice is being reissued in its entirety to include the revised scope, description of the amendment request, and proposed no significant hazards consideration determination. The amendment would revise the Radiological Emergency Plan Annex for TMI, Unit 1. The proposed changes would decrease the radiation protection technician staffing from three to two technicians. The proposed amendment would also make changes to staffing of on-shift maintenance personnel. Specifically, the amendment would revise the on-shift position operations support center director (renamed repair team lead) to remove the requirement that the position be from the maintenance organization; remove two dedicated maintenance technicians from the on-shift staffing total; and remove two additional personnel from the repair and corrective actions major task and assign them to respond within 60 minutes, as well as one additional staff person to respond within 90 minutes.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the TMI Emergency Plan do not increase the probability or consequences of an accident. The proposed changes do not impact the function of plant Structures, Systems, or Components (SSCs). The proposed changes do not affect accident initiators or accident precursors, nor do the changes alter design assumptions. The proposed changes do not alter or prevent the ability of the onsite ERO [emergency response organization] to perform their intended functions to mitigate the consequences of an accident or event. The proposed changes remove onsite ERO positions no longer credited or considered necessary in support of Emergency Plan implementation.

Therefore, the proposed changes to the Emergency Plan do not involve a significant increase in the probability or consequences of an accident previously evaluated.

2. Does the proposed amendment create the possibility of a new or different kind of accident from any previously evaluated?

Response: No.

The proposed changes have no impact on the design, function, or operation of any plant SSCs. The proposed changes do not affect plant equipment or accident analyses. The proposed changes do not involve a physical alteration of the plant (i.e., no new or different type of equipment will be installed), a change in the method of plant operation, or new operator actions. The proposed changes do not introduce failure modes that could result in a new accident, and the proposed changes do not alter assumptions made in the safety analysis. The proposed changes remove onsite ERO positions no longer credited or considered necessary in support of Emergency Plan implementation.

Therefore, the proposed changes to the Emergency Plan do not create the possibility of a new or different kind of accident from any accident previously evaluated.

3. Does the proposed amendment involve a significant reduction in a margin of safety?

Response: No.

Margin of safety is associated with confidence in the ability of the fission product barriers (i.e., fuel cladding, reactor coolant system pressure boundary, and containment structure) to limit the level of radiation dose to the public.

The proposed changes do not adversely affect existing plant safety margins or the reliability of the equipment assumed to operate in the safety analyses. There are no changes being made to safety analysis assumptions, safety limits, or limiting safety system settings that would adversely affect plant safety as a result of the proposed changes. Margins of safety are unaffected by the proposed changes to the ERO minimum on-shift staffing.

The proposed changes are associated with the Emergency Plan staffing and do not impact operation of the plant or its response to transients or accidents. The proposed changes do not affect the Technical Specifications. The proposed changes do not involve a change in the method of plant operation, and no accident analyses will be affected by the proposed changes. Safety analysis acceptance criteria are not affected by these proposed changes. The proposed changes to the Emergency Plan will continue to provide the necessary onsite ERO response staff.

Therefore, the proposed changes to the Emergency Plan do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

Date of amendment request: February 23, 2017. A publicly-available version is in ADAMS under Accession No. ML17055A631.

Description of amendment request: The amendment would revise the operating licenses and technical specifications to remove time, cycle, or modification-related items. Additionally, the proposed amendment makes editorial and formatting changes. The time, cycle, or modification-related items have been implemented or superseded and are no longer applicable.

Basis for proposed no significant hazards consideration determination: As required by 10 CFR 50.91(a), the licensee has provided its analysis of the issue of no significant hazards consideration, which is presented below:

1. Does the proposed amendment involve a significant increase in the probability or consequences of an accident previously evaluated?

Response: No.

The initial conditions and methodologies used in the accident analyses remain unchanged. The proposed changes do not change or alter the design assumptions for the systems or components used to mitigate the consequences of an accident. Therefore, accident analyses results are not impacted.

All changes proposed by EGC [Exelon Generation Company, LLC] in this amendment request are administrative in nature, and are removing one-time requirements that have been satisfied, items that are no longer applicable, or are editorial. There are no physical changes to the facilities, nor any changes to the station operating procedures, limiting conditions for operation, or limiting safety system settings.

Therefore, the proposed changes do not involve a significant increase in the probability or consequences of an accident previously evaluated.

2. Does the proposed amendment create the possibility of a new or different kind of accident from any previously evaluated?

Response: No.

None of the proposed changes affect the design or operation of any system, structure, or component in the plants. The safety functions of the related structures, systems, or components are not changed in any manner, nor is the reliability of any structure, system, or component reduced by the revised surveillance or testing requirements. The changes do not affect the manner by which the facility is operated and do not change any facility design feature, structure, system, or component. No new or different type of equipment will be installed. Since there is no change to the facility or operating procedures, and the safety functions and reliability of structures, systems, or components are not affected, the proposed changes do not create the possibility of a new or different kind of accident from any accident previously evaluated.

Therefore, the proposed changes do not create the possibility of a new or different kind of accident from any previously evaluated.

3. Does the proposed amendment involve a significant reduction in a margin of safety?

Response: No.

The proposed changes are administrative in nature and have no impact on the margin of safety of any of the TS [technical specifications]. There is no impact on safety limits or limiting safety system settings. The changes do not affect any plant safety parameters or setpoints. The OL [operating license] Conditions have been satisfied as required.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Acting Branch Chief: Kimberly J. Green.

Northern States Power Company—Minnesota, Docket Nos. 50-282 and 50-306, Prairie Island Nuclear Generating Plant (PINGP), Units 1 and 2, Goodhue County, Minnesota

Date of amendment request: February 23, 2017. A publicly-available version is in ADAMS under Accession No. ML17055C359.

Brief description of amendment request: The proposed amendments would revise the PINGP, Units 1 and 2, Emergency Plan (E-Plan) to increase augmentation times for Emergency Response Organization (ERO) response functions. The amendment would also include other E-Plan modifications to include facility activation criteria, changes to survey requirements, removal of radiation protection support from Monticello Nuclear Generating Plant, and removal of some positions from the augmentation list.

Basis for proposed no significant hazards consideration determination: As required by 10 CFR 50.91(a), the licensee has provided its analysis of the issue of no significant hazards consideration, which is presented below:

1. Does the proposed change involve a significant increase in the probability or consequences of an accident previously evaluated?

Response: No.

The proposed increase in staff augmentation times has no effect on normal plant operation or on any accident initiator or precursors and does not impact the function of plant structures, systems, or components (SSCs).

The proposed change does not alter or prevent the ability of the on-shift ERO to perform their intended functions to mitigate the consequences of an accident or event. The ability of the ERO to respond adequately to radiological emergencies has been demonstrated as acceptable through a staffing analysis as required by 10 CFR 50, Appendix E, Section IV.A.9.

Therefore, the proposed [E-Plan] changes do not involve a significant increase in the probability or consequences of an accident previously evaluated.

2. Does the proposed change create the possibility of a new or different kind of accident from any accident previously evaluated?

Response: No.

The proposed change does not impact any accident analysis. The proposed change does not involve a physical alteration of the plant (i.e., no new or different type of equipment will be installed), a change in the method of plant operation, or new operator actions. The proposed change does not introduce failure modes that could result in a new accident, and the change does not alter assumptions made in the safety analysis. The proposed change increases the staff augmentation response times in the E-Plan, which are demonstrated as acceptable through a functional analysis as required by 10 CFR 50, Appendix E, Section IV.A.9. The proposed change does not alter or prevent the ability of the ERO to perform their intended functions to mitigate the consequences of an accident or event.

Therefore, the proposed change does not create the possibility of a new or different kind of accident from any accident previously evaluated.

3. Does the proposed change involve a significant reduction in a margin of safety?

Response: No.

Margin of safety is associated with confidence in the ability of the fission product barriers (i.e., fuel cladding, reactor coolant system pressure boundary, and containment structure) to limit the level of radiation dose to the public. The proposed change is associated with the E-Plan staffing and does not impact operation of the plant or its response to transients or accidents. The change does not affect the Technical Specifications. The proposed change does not involve a change in the method of plant operation, and no accident analyses will be affected by the proposed change. Safety analysis acceptance criteria are not affected by this proposed change. The proposed revisions to the E-Plan continue to provide the necessary response staff with the proposed change.

A staffing analysis and a functional analysis were performed for the proposed change focusing on the timeliness of performing major tasks for the functional areas of E-Plan. The analysis concluded that an extension in staff augmentation times would not significantly affect the ability to perform the required E-Plan tasks. Therefore, the proposed change is determined to not adversely affect the ability to meet 10 CFR 50.54(q)(2), the requirements of 10 CFR 50 Appendix E, and the emergency planning standards as described in 10 CFR 50.47 (b).

Therefore, the proposed change does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Peter M. Glass, Assistant General Counsel, Xcel Energy Services, Inc., 414 Nicollet Mall, Minneapolis, MN 55401

NRC Branch Chief: David J. Wrona.

South Carolina Electric & Gas Company, Docket Nos. 52-027 and 52-028, Virgil C. Summer Nuclear Station, Units 2 and 3, Fairfield County, South Carolina

Date of amendment request: February 27, 2017. A publicly-available version is in ADAMS under Accession No. ML17060A662.

Description of amendment request: The requested amendment proposes to depart from Tier 2 information in the Updated Final Safety Analysis Report (UFSAR) and to change Combined License Appendix A, Technical Specifications (TS), to modify engineered safety features logic for containment vacuum relief actuation.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the UFSAR and TS will include the Containment Pressure—Low automatic reset function for the containment vacuum relief valves manual initiation logic, such that the containment vacuum relief manual actuation will be automatically reset when the containment pressure rises above the Containment Pressure—Low setpoint. This reset allows a containment isolation signal to close the valves when necessary. The Containment Pressure—Low signal is an interlock for the containment vacuum relief manual actuation such that the valves cannot be opened unless the Containment Pressure—Low setpoint has been reached in any two-out-of-four divisions. The modified logic will ensure that the automatic initiation of containment isolation is made available following manual initiation of containment vacuum relief actuation. The analyzed design and function of the Engineered Safety Features Actuation System and its actuated components is not affected. The proposed changes do not adversely affect any safety-related equipment and does not involve any accident, initiating event, or component failure, thus the probabilities of accidents previously evaluated are not affected. The proposed changes do not adversely interface with or adversely affect any system containing radioactivity or affect any radiological material release source term; thus the radiological releases in an accident are not affected.

Therefore, the proposed amendment does not involve a significant increase in the probability or consequences of an accident previously evaluated.

2. Does the proposed amendment create the possibility of a new or different kind of accident from any accident previously evaluated?

Response: No.

The changes to the UFSAR and TS to include the Containment Pressure—Low manual actuation interlock and automatic reset function for the containment vacuum relief valves manual initiation logic will maintain the Engineered Safety Features Actuation System and Plant Safety and Monitoring System in accordance with the design objectives as licensed. The design of the Class 1E Containment Pressure—Low manual actuation interlock and automatic reset function is required to meet the licensing basis for the Engineered Safety Features Actuation System and Plant Safety and Monitoring System. The changes to the manual initiation logic do not adversely affect the function of any safety-related structure, system, or component, and thus does not introduce a new failure mode. The changes to the containment vacuum relief valves manual initiation logic do not adversely interface with any safety-related equipment or any equipment associated with radioactive material and, thus, do not create a new fault or sequence of events that could result in a new or different kind of accident.

Therefore, the proposed amendment does not create the possibility of a new or different kind of accident [from any accident previously evaluated].

3. Does the proposed amendment involve a significant reduction in a margin of safety?

Response: No.

The changes to the UFSAR and TS to include the Containment Pressure—Low automatic reset function for the containment vacuum relief valves manual initiation logic will maintain the Engineered Safety Features Actuation System and Plant Safety and Monitoring System in accordance with the design objectives as licensed. The changes to the manual initiation logic do not adversely interface with any safety-related equipment or adversely affect any safety-related function. The changes to the containment vacuum relief manual initiation logic continue to comply with existing design codes and regulatory criteria, and do not involve a significant reduction in the margin of safety.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW, Washington, DC, 20004-2514.

NRC Branch Chief: Jennifer Dixon-Herrity.

Susquehanna Nuclear, LLC, Docket Nos. 50-387 and 50-388, Susquehanna Steam Electric Station, Units 1 and 2, Luzerne County, Pennsylvania

Date of amendment request: February 1, 2017. A publicly-available version is in ADAMS under Accession No. ML17032A259.

Description of amendment request: The amendments would revise Technical Specification (TS) 3.6.4.3, “Standby Gas Treatment (SGT) System,” and TS 3.7.3, “Control Room Emergency Outside Air Supply (CREOAS) System,” by changing the run time of monthly surveillance requirements (SRs) for the standby gas treatment and control room emergency outside air supply systems from 10 hours to 15 minutes. This change is consistent with Technical Specifications Task Force (TSTF) Traveler TSTF-522, Revision 0, “Revise Ventilation System Surveillance Requirements to Operate for 10 hours per Month,” with minor variations. The notice of availability and model safety evaluation of TSTF-522, Revision 0, were published in the Federal Register on September 20, 2012 (77 FR 58421).

Basis for proposed no significant hazards consideration determination: As required by 10 CFR 50.91(a), the licensee has provided its analysis of the issue of no significant hazards consideration, which is presented below, along with NRC edits in square brackets:

1. Does the proposed change involve a significant increase in the probability or consequences of an accident previously evaluated?

Response: No.

The proposed change modifies the performance length of an existing Surveillance Requirement of the SGT and CREOAS Systems. The requirement for heater operation will not be modified.

These systems are not accident initiators and therefore [these changes do not involve a significant increase in the probability] of an accident previously evaluated. The proposed changes are consistent with current regulatory guidance for these systems and will continue to assure that these systems perform their design function(s), which may include mitigating accident consequences. Therefore, the change does not involve a significant increase in the consequences of an accident.

Therefore, it is concluded that this change does not involve a significant increase in the probability or consequences of an accident previously evaluated.

2. Does the proposed change create the possibility of a new or different kind of accident from any accident previously evaluated?

Response: No.

The changes proposed do not change the way the system is operated or maintained. The changes reduce the performance length of existing SRs. The reduced performance length will continue to demonstrate that the Limiting Conditions for Operation (LCO) for the SGT and CREOAS systems are met. The change does not create new failure modes or mechanisms and no new accident precursors are generated.

Therefore, it is concluded that this change does not create the possibility of a new or different kind of accident from any accident previously evaluated.

3. Does the proposed change involve a significant reduction in a margin of safety?

Response: No.

This change reduces the performance length of SRs used to demonstrate operability of the CREOAS and SGT systems. This change is consistent with current regulatory guidance for these systems.

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Damon D. Obie, Associate General Counsel, Talen Energy Supply, LLC, 835 Hamilton St., Suite 150, Allentown, PA 18101.

NRC Branch Chief: James G. Danna.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

DTE Electric Company, Docket No. 50-341, Fermi 2, Monroe County, Michigan

Date of amendment request: February 23, 2017. A publicly-available version is in ADAMS under Accession No. ML17055A365.

Brief description of amendment request: The proposed amendment would revise the technical specification requirements for high pressure coolant injection system and reactor core isolation cooling system actuation instrumentation in low pressure conditions.

Date of publication of individual notice in Federal Register: March 13, 2017 (82 FR 13512).

Expiration date of individual notice: April 12, 2017 (public comments); May 12, 2017 (hearing requests).

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress, LLC, Docket No. 50-261, H. B. Robinson Steam Electric Plant, Unit No. 2, Darlington County, South Carolina

Date of amendment request: April 24, 2016, as supplemented by letters dated September 14, 2016, and March 8, 2017.

Brief description of amendment: The amendment adopted Technical Specification Task Force (TSTF) Change Traveler TSTF-339, Revision 2, “Relocate TS [Technical Specification] Parameters to COLR [Core Operating Limits Report],” consistent with NRC-approved Westinghouse topical report WCAP-14483-A, “Generic Methodology for Expanded Core Operating Limits Report,” and relocated reactor coolant system-related cycle-specific parameters and core safety limits from the TSs to the COLR.

Date of issuance: March 23, 2017.

Effective date: As of the date of issuance and shall be implemented within 120 days of issuance.

Amendment No.: 250. A publicly-available version is in ADAMS under Accession No. ML17039A153; documents related to this amendment are listed in the Safety Evaluation enclosed with the amendment.

Renewed Facility Operating License No. DPR-23: Amendment revised the Renewed Facility Operating License and TSs.

Date of initial notice in Federal Register: July 5, 2016 (81 FR 43651). The supplemental letters dated September 14, 2016, and March 8, 2017, provided additional information that clarified the application, did not expand the scope of the application as originally noticed, and did not change the staff's original proposed no significant hazards consideration determination as published in the Federal Register.

The Commission's related evaluation of the amendment is contained in a Safety Evaluation dated March 23, 2017.

No significant hazards consideration comments received: No.

Exelon Generation Company, LLC, Docket No. 50-353, Limerick Generating Station, Unit 2, Montgomery County, Pennsylvania

Date of amendment request: December 20, 2016.

Brief description of amendment: The amendment authorized use of the release fractions listed in Tables 1 and 3 of NRC Regulatory Guide (RG) 1.183, “Alternative Radiological Source Terms for Evaluating Design Basis Accidents at Nuclear Power Reactors,” for a limited number of partial length fuel rods that are currently in the Limerick Generating Station, Unit 2, Cycle 14, reactor core for the remainder of the current operating cycle and revise the licensing basis for subsequent fuel movement of irradiated fuel bundles containing partial length rods.

Date of issuance: March 15, 2017.

Effective date: As of its date of issuance and shall be implemented prior to exceeding the burnup limit in the current operating Cycle 14.

Amendment No.: 186. A publicly-available version is in ADAMS under Accession No. ML17047A353; documents related to this amendment are listed in the Safety Evaluation enclosed with the amendment.

Renewed Facility Operating License No. NPF-85: The amendment revised the licensing basis to allow the use of the release fractions listed in Tables 1 and 3 of NRC RG 1.183 for a limited number of partial length fuel rods currently in the Cycle 14 reactor core for the remainder of the current operating cycle and subsequent fuel movements.

Date of initial notice in Federal Register: January 31, 2017 (82 FR 8871).

The Commission's related evaluation of the amendment is contained in a Safety Evaluation dated March 15, 2017.

No significant hazards consideration comments received: No.

NextEra Energy Seabrook, LLC, Docket No. 50-443, Seabrook Station, Unit No. 1, Rockingham County, New Hampshire

Date of amendment request: March 31, 2016, as supplemented by letters dated May 31, 2016; October 27, 2016; November 17, 2016; and December 30, 2016.

Description of amendment request: The amendment revised Technical Specification 6.15, “Containment Leakage Rate Testing Program,” to require a program that is in accordance with Nuclear Energy Institute (NEI) Topical Report NEI 94-01, Revision 3-A, “Industry Guideline for Implementing Performance-Based Option of 10 CFR part 50, Appendix J.”

Date of issuance: March 15, 2017.

Effective date: As of its date of issuance and shall be implemented within 30 days of issuance.

Amendment No.: 153. A publicly-available version is in ADAMS under Accession No. ML17046A443; documents related to this amendment are listed in the Safety Evaluation enclosed with the amendment.

Facility Operating License No. NPF-86: Amendment revised the Facility Operating License and Technical Specifications.

Date of initial notice in Federal Register: July 19, 2016 (81 FR 46964). The supplemental letters dated October 27, 2016; November 17, 2016; and December 30, 2016, provided additional information that clarified the application, did not expand the scope of the application as originally noticed, and did not change the NRC staff's original proposed no significant hazards consideration determination as published in the Federal Register.

The Commission's related evaluation of the amendment is contained in a Safety Evaluation dated March 15, 2017.

No significant hazards consideration comments received: No.

PSEG Nuclear LLC, Docket No. 50-354, Hope Creek Generating Station, Salem County, New Jersey

Date of amendment request: June 17, 2016, as supplemented by letters dated December 27, 2016, and February 17, 2017.

Brief description of amendment: The amendment revised the Technical Specifications by adding a note permitting one low pressure coolant injection subsystem of residual heat removal to be considered OPERABLE in Operating Conditions 4 and 5 during alignment and operation for decay heat removal, if capable of being manually realigned and not otherwise inoperable.

Date of issuance: March 15, 2017.

Effective date: As of the date of issuance and shall be implemented within 60 days of issuance.

Amendment No.: 202. A publicly-available version is in ADAMS under Accession No. ML17053A178; documents related to this amendment are listed in the Safety Evaluation enclosed with the amendment.

Renewed Facility Operating License No. NPF-57: Amendment revised the Facility Operating License and Technical Specifications.

Date of initial notice in Federal Register: August 16, 2016 (81 FR 54615). The supplemental letters dated December 27, 2016, and February 17, 2017, provided additional information that clarified the application, did not expand the scope of the application as originally noticed, and did not change the staff's original proposed no significant hazards consideration determination as published in the Federal Register.

The Commission's related evaluation of the amendment is contained in a Safety Evaluation dated March 15, 2017.

No significant hazards consideration comments received: No.

PSEG Nuclear LLC, Docket No. 50-354, Hope Creek Generating Station, Salem County, New Jersey

Date of amendment request: May 11, 2016, as supplemented by letter dated December 13, 2016.

Brief description of amendment: The amendment revised the Hope Creek Generating Station Technical Specification (TS) requirements by deleting TS Action Statement 3.4.2.1.b concerning stuck open safety/relief valves. In addition, TS 3.6.2.1 Action Statements regarding suppression chamber water temperature were revised to align with NUREG-1433, Revision 4, “Standard Technical Specifications—General Electric Plants (BWR/4).”

Date of issuance: March 21, 2017.

Effective date: As of the date of issuance, and shall be implemented within 60 days of issuance.

Amendment No.: 203. A publicly-available version is in ADAMS under Accession No. ML17047A020; documents related to this amendment are listed in the Safety Evaluation enclosed with the amendment.

Renewed Facility Operating License No. NPF-57: Amendment revised the Renewed Facility Operating License and TSs.

Date of notice in Federal Register: January 17, 2017 (82 FR 4932). The license amendment request was originally noticed in the Federal Register on July 19, 2016 (81 FR 46965). The notice was reissued in its entirety to include the revised scope, description of the amendment request, and proposed no significant hazards consideration determination.

The Commission's related evaluation of the amendment is contained in a Safety Evaluation dated March 21, 2017.

No significant hazards consideration comments received: No.

Southern Nuclear Operating Company, Inc., Docket Nos. 50-424, 50-425, 52-025, 52-026, Vogtle Electric Generating Plant (VEGP), Units 1, 2, 3, and 4, Burke County, Georgia

Southern Nuclear Operating Company, Inc., Docket Nos. 50-348 and 50-364, Joseph M. Farley Nuclear Plant (Farley), Units 1 and 2, Houston County, Alabama

Southern Nuclear Operating Company, Inc., Docket Nos. 50-321 and 50-366, Edwin I. Hatch Nuclear Plant (Hatch), Unit Nos. 1 and 2, City of Dalton, Georgia

Date of application for amendments: August 31, 2015, as supplemented by letters dated February 17, 2016; April 8, 2016; May 13, 2016; May 26, 2016; June 9, 2016; and November 2, 2016.

Brief description of amendments: The amendments approved a standard emergency plan for all Southern Nuclear Operating Company, Inc., sites and site-specific annexes.

Date of issuance: March 14, 2017.

Effective date: As of the date of issuance and shall be implemented by January 31, 2018.

Amendment Nos.: VEGP, Unit 1—184, Unit 2—167, Unit 3—74, Unit 4—73; Farley, Unit 1—209, Unit 2—206; and Hatch, Unit 1—283, Unit 2—228. A publicly-available version is in ADAMS under Package Accession No. ML16141A090, documents related to these amendments are listed in the Safety Evaluation enclosed with the amendments.

Renewed Facility Operating License Nos. NPF-68, NPF-81, NPF-2, NPF-8, DPR-57, and NPF-5: The amendments revised the Renewed Facility Operating Licenses.

Facility Combined License Nos. NPF-91 and NPF-92: The amendments revised the Facility Combined Licenses.

Date of initial notices in Federal Register: October 27, 2015 (80 FR 65816). The supplemental letters dated February 17, 2016; April 8, 2016; May 13, 2016; May 26, 2016; June 9, 2016; and November 2, 2016, provided additional information that clarified the applications, did not expand the scope of the applications as originally noticed, and did not change the staff's original proposed no significant hazards consideration determinations as published in the Federal Register.

The Commission's related evaluations of the amendments is contained in Safety Evaluations dated March 14, 2017.

No significant hazards considerations comments received: No.

Southern Nuclear Operating Company, Inc., Docket Nos. 50-348 and 50-364, Joseph M. Farley Nuclear Plant (FNP), Units 1 and 2, Houston County, Alabama

Southern Nuclear Operating Company, Inc., Docket Nos. 50-424 and 50-425, Vogtle Electric Generating Plant (VEGP), Units 1 and 2, Burke County, Georgia

Southern Nuclear Operating Company, Inc., Georgia Power Company, Oglethorpe Power Corporation, Municipal Electric Authority of Georgia, City of Dalton, Georgia, Docket Nos. 50-321 and 50-366, Edwin I. Hatch Nuclear Plant (HNP), Unit Nos. 1 and 2, Appling County, Georgia

Date of amendment request: March 3, 2016, as supplemented by letter dated November 3, 2016.

Brief description of amendments: The amendments adopted Nuclear Energy Institute (NEI) 99-01, Revision 6, “Development of Emergency Action Levels for Non-Passive Reactors,” to replace the Emergency Action Level (EAL) schemes for VEGP, FNP, and HNP that are currently based on Revision 4. Additionally, SNC proposes changes to the radiation monitors at FNP.

Date of issuance: March 16, 2017.

Effective date: As of the date of issuance and shall be implemented within 1 year of issuance.

Amendment Nos.: Farley—Unit 1 (210) and Unit 2 (207); Vogtle—Unit 1 (185) and Unit 2 (168); and Hatch—Unit 1 (284) and Unit 2 (229). A publicly-available version is in ADAMS under Accession No. ML17023A237; documents related to these amendments are listed in the Safety Evaluation enclosed with the amendments.

Renewed Facility Operating License Nos. NPF-2, NPF-8, NPF-68, NPF-81, DPR-57, NPF-5: Amendments revised the Emergency Action Level Schemes.

Date of initial notice in Federal Register: April 26, 2016 (81 FR 24664). The supplemental letter dated November 3, 2016, provided additional information that clarified the application, did not expand the scope of the application as originally noticed, and did not change the staff's original proposed no significant hazards consideration determination as published in the Federal Register.

The Commission's related evaluation of the amendment is contained in a Safety Evaluation dated March 16, 2017.

No significant hazards consideration comments received: No.

Susquehanna Nuclear, LLC, Docket Nos. 50-387 and 50-388, Susquehanna Steam Electric Station, Units 1 and 2, Luzerne County, Pennsylvania

Date of amendment request: July 27, 2016, as supplemented by letter dated September 13, 2016.

Brief description of amendments: The amendments revised Technical Specification 3.6.4.1, “Secondary Containment,” Surveillance Requirement (SR) 3.6.4.1.3 to provide an allowance for brief, inadvertent, simultaneous opening of redundant secondary containment access doors during normal entry and exit conditions.

Date of issuance: March 27, 2017.

Effective date: As of the date of issuance and shall be implemented within 60 days of issuance.

Amendment Nos.: 267 (Unit 1) and 249 (Unit 2). A publicly-available version is in ADAMS under Accession No. ML17067A444; documents related to these amendments are listed in the Safety Evaluation enclosed with the amendments.

Renewed Facility Operating License Nos. NPF-14 and NPF-22: The amendments revised the Renewed Facility Operating Licenses and Technical Specifications.

Date of initial notice in Federal Register: October 25, 2016 (81 FR 73441).

The Commission's related evaluation of the amendments is contained in a Safety Evaluation dated March 27, 2017.

No significant hazards consideration comments received: No.

Tennessee Valley Authority, Docket Nos. 50-259, 50-260, and 50-296, Browns Ferry Nuclear Plant (BFN), Units 1, 2 and 3, Limestone County, Alabama

Tennessee Valley Authority, Docket Nos. 50-327 and 50-328, Sequoyah Nuclear Plant (SQN), Units 1 and 2, Hamilton County, Tennessee

Date of amendment request: April 14, 2016.

Brief description of amendments: The amendments revised Technical Specification (TS) 5.3, “Unit Staff Qualifications,” for BFN, Units 1, 2, and 3, and SQN, Units 1 and 2, to delete the references to Regulatory Guide 1.8, Revision 2, and replace them with references to the Tennessee Valley Authority (TVA) Nuclear Quality Assurance Plan. The changes will ensure consistent regulatory requirements regarding staff qualifications for the TVA nuclear fleet. The changes will further allow TVA to implement standard procedures related to staff qualifications. Additionally, the TS changes are consistent with the intent of NRC Administrative Letter 95-06 in that the relocated requirements are adequately controlled by 10 CFR 50 Appendix B and the quality assurance change control process in 10 CFR 50.54(a).

Date of issuance: March 27, 2017.

Effective date: As of its date of issuance and shall be implemented within 60 days of issuance.

Amendment Nos.: BFN—298 (Unit 1), 322 (Unit 2), and 282 (Unit 3); and SQN—338 (Unit 1), and 331 (Unit 2). A publicly-available version is in ADAMS under Accession No. ML17034A360; documents related to these amendments are listed in the Safety Evaluation enclosed with the amendments.

Renewed Facility Operating License Nos. DPR-33, DPR-52, DPR-68, DPR-77, and DPR-79: Amendments revised the Renewed Facility Operating Licenses and TSs.

Date of initial notice in Federal Register: August 2, 2016 (81 FR 50739).

The Commission's related evaluation of the amendment is contained in a Safety Evaluation dated March 27, 2017.

No significant hazards consideration comments received: No.

Tennessee Valley Authority, Docket Nos. 50-259, 50-260, and 50-296, Browns Ferry Nuclear Plant, Units 1, 2, and 3, Limestone County, Alabama

Date of amendment request: July 14, 2016.

Brief description of amendments: The amendments revised the date of cyber security plan implementation schedule Milestone 8 from July 31, 2017, to December 31, 2017.

Date of issuance: March 16, 2017.

Effective date: As of the date of issuance and shall be implemented within 30 days of issuance.

Amendment No.: 297 (Unit 1), 321 (Unit 2), 281 (Unit 3). A publicly-available version is in ADAMS under Accession No. ML17052A136; documents related to these amendments are listed in the Safety Evaluation enclosed with the amendments.

Renewed Facility Operating License Nos. DPR-33, DPR-52, and DPR-68: Amendments revised the Renewed Facility Operating Licenses.

Date of initial notice in Federal Register: November 8, 2016 (81 FR 78666).

The Commission's related evaluation of the amendment is contained in a Safety Evaluation dated March 16, 2017.

No significant hazards consideration comments received: No.

Tennessee Valley Authority, Docket No. 50-391, Watts Bar Nuclear Plant (WBN), Unit 2, Rhea County, Tennessee

Date of amendment request: November 14, 2016.

Brief description of amendment: The amendment revised the WBN Unit 2 Cyber Security Plan Implementation Schedule for Milestone 8 and associated license condition in the Facility Operating License.

Date of issuance: March 16, 2017.

Effective date: As of the date of issuance and shall be implemented within 30 days of issuance.

Amendment No.: 7. A publicly-available version is in ADAMS under Accession No. ML17033A333; documents related to this amendment are listed in the Safety Evaluation enclosed with the amendment.

Facility Operating License No. NPF-96: Amendment revised the Facility Operating License.

Date of initial notice in Federal Register: January 5, 2017 (82 FR 1370).

The Commission's related evaluation of the amendment is contained in a Safety Evaluation dated March 16, 2017.

No significant hazards consideration comments received: No.

Tennessee Valley Authority, Docket No. 50-391, Watts Bar Nuclear Plant, Unit 2, Rhea County, Tennessee

Date of amendment request: May 16, 2016.

Brief description of amendment: The amendment revised the Technical Specifications (TS) to correct an administrative error in the initial issuance of the TSs regarding the steam generator narrow range level specified in Surveillance Requirement 3.4.6.3.

Date of issuance: March 23, 2017.

Effective date: As of the date of issuance and shall be implemented within 60 days of issuance.

Amendment No.: 8. A publicly-available version is in ADAMS under Accession No. ML17019A019; documents related to this amendment are listed in the Safety Evaluation enclosed with the amendment.

Facility Operating License No. NPF-96: Amendment revised the Facility Operating License and Technical Specifications.

Date of initial notice in Federal Register: September 13, 2016 (81 FR 62933).

The Commission's related evaluation of the amendment is contained in a Safety Evaluation dated March 23, 2017.

No significant hazards consideration comments received: No.

Wolf Creek Nuclear Operating Corporation, Docket No. 50-482, Wolf Creek Generating Station (WCGS), Coffey County, Kansas

Date of amendment request. June 14, 2016.

Brief description of amendment: The amendment revised the Cyber Security Plan (CSP) Implementation Milestone 8 completion date and paragraph 2.E of the Renewed Facility Operating License No. NPF-42 for WCGS to incorporate the revised CSP implementation schedule.

Date of issuance: March 24, 2017.

Effective date: As of its date of issuance and shall be implemented within 30 days from the date of issuance.

Amendment No.: 217. A publicly-available version is in ADAMS under Accession No. ML17024A241; documents related to this amendment are listed in the Safety Evaluation enclosed with the amendment.

Renewed Facility Operating License No. NPF-42: The amendment revised the Renewed Facility Operating License and Technical Specifications.

Date of initial notice in Federal Register: August 16, 2016 (81 FR 54618).

The Commission's related evaluation of the amendment is contained in a Safety Evaluation dated March 24, 2017.

No significant hazards consideration comments received: No.

Dated at Rockville, Maryland, this 31st day of March 2017.
For the Nuclear Regulatory Commission.
Kathryn M. Brock,
Deputy Director, Division of Operating Reactor Licensing, Office of Nuclear Reactor Regulation.

[FR Doc. 2017-07279 Filed 4-10-17; 8:45 am]

BILLING CODE 7590-01-P